DEPARTMENT OF JUSTICE

Notice of Lodging of Consent Decree for Payment of Civil Penalty for Violations of the Clean Air Act

Under 28 CFR 50.7, notice is hereby given that on December 4, 2000, a proposed Consent Decree in United States v. Columbus McKinnon Corporation, Civil Action No. C00-3096MWB, was lodged with the United States District Court for the Northern District of Iowa.

In this action, the United State seeks civil penalties for Columbus McKinnon Corporation's (“Columbus”) violations of Section 112 of the Clean Air Act, 42 U.S.C. 7412, and of the National Emission Standards for Hazardous Air Pollutants for Chromium Emissions from Hard and Decorative Chromium Electroplating and Chromium Anodizing Tanks, codified at 40 CFR part 63, subpart N. The allegations occurred at a facility located in Laurens, Iowa, which is owned by Columbus McKinnon Corporation, and concern the failure to comply with the Chromium emission limitations, untimely submission of initial notification, and conducting an untimely performance test. Under the Consent Decree, Columbus will pay a civil penalty of $60,000.

The Department of Justice will receive, for a period of thirty (30) days from the date of this publication, comments relating to the Consent Decree. Comments should be addressed to the Assistant Attorney General of the Environment and Natural Resources Division, Department of Justice, Washington, DC 20530, and should refer to United States v. Columbus McKinnon Corporation, DOJ #90-5-2-1-06754.

The Consent Decree may be examined at the Office of the United States Attorney, 401 1st St. SE, Cedar Rapids, Iowa, 52401; at EPA Region VII, 901 N. 5th Street, Kansas City, KS, 66101; or can be obtained by mail from the Consent Decree Library, P.O. Box 7611, United States Department of Justice, Washington, DC, 20044-7611. In requesting a copy, please enclose a check of $5.25 (25 cents per page reproduction cost) payable to the Consent Decree Library.

Stephen J. Rapp,
United States Attorney, Northern District Iowa.

[FR Doc. 00-33248 Filed 12-27-00; 8:45 am]

BILLING CODE 4410-15-M